DEPARTMENT OF ENERGY

Federal Energy Regulatory Commission

[Project No. 14318-000]

Grand Coulee Project Hydroelectric Authority; Notice of Preliminary Permit Application Accepted for Filing and Soliciting Comments and Motions To Intervene

On November 8, 2011, Grand Coulee Project Hydropower Authority (Grand Coulee Authority) filed an application for a preliminary permit, pursuant to section 4(f) of the Federal Power Act (FPA), proposing to study the feasibility of the Scooteney Inlet Drop Hydroelectric Project (Scooteney Inlet Project or project) to be located on the Potholes East Canal, which is an inlet structure to the Scooteney Reservoir, near Othello, Franklin County, Washington. The sole purpose of a preliminary permit, if issued, is to grant the permit holder priority to file a license application during the permit term. A preliminary permit does not authorize the permit holder to perform any land-disturbing activities or otherwise enter upon lands or waters owned by others without the owners' express permission.

The proposed project would consist of the following: (1) An approximately 200-foot-long, 100-foot-wide canal leading to a 100-foot-wide, 15-foot-high intake structure installed on the Potholes East Canal to divert flow from the canal to the penstock; (2) an 80-foot-long, 12-foot-diameter penstock from the intake structure to the powerhouse; (3) an approximately 20-foot-long, 50-foot-wide powerhouse containing a single S-turbine/generator unit rated at 1.7 megawatts at an average head of 14 feet; (4) a 150-foot-long tailrace returning flows from the powerhouse to the Potholes East Canal; (5) a substation at the powerhouse; (6) a 2,500-foot-long, 13.8-kilovolt transmission line which will connect with an existing distribution line; and (7) appurtenant facilities. The project will be located on federal lands, and would operate as run-of-release using irrigation flows provided by the U.S. Bureau of Reclamation and the South Columbia Basin Irrigation District. The estimated annual generation of the Scooteney Inlet Project would be 5.2 gigawatt-hours.

Applicant Contact: Mr. Ronald Rodewald, Secretary-Manager, Grand Coulee Project Hydroelectric Authority, P.O. Box 219, Ephrata, WA 98823; phone: (509) 754-2227.

FERC Contact: Jennifer Harper; phone: (202) 502-6136.

Competing Application: This application competes with Project No. 14204-000 filed May 31, 2011, and with Project No. 14231, filed July 18, 2011. A notice was issued for both competing projects on August 10, 2011, and competing applications or notices of intent for competing applications had to be filed on or before October 9, 2011. Grand Coulee Authority filed a notice of intent to file a competing application for a preliminary permit on October 7, 2011.

Deadline for filing comments or motions to intervene: 60 days from the issuance of this notice. Comments and motions to intervene may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-(866) 208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14318-000) in the docket number field to access the document. For assistance, call toll-free 1-(866) 208-3372.

Dated: November 29, 2011.
Kimberly D. Bose,
Secretary.

[FR Doc. 2011-31165 Filed 12-5-11; 8:45 am]

BILLING CODE 6717-01-P